NATIONAL TRANSPORTATION SAFETY BOARD

Sunshine Act; Agenda

Time and Date: 9:30 a.m, Tuesday, November 15, 2005.

Place: NTSB Board Room, 429 L'Enfant Plaza, SW., Washington, DC 20594.

Status: The one item is open to the public.

Matter to be Considered:

5299S Most Wanted Safety Recommendations Program—November 2005 Update on Federal Issues.

News Media Contact: Telephone: (202) 314-6100.

Individuals requesting specific accommodations should contact Mr. Bill McGruder at (202) 314-6222 by Friday, November 11, 2005.

The public may view the meeting via a live or archived webcast by accessing a link under “News & Events” on the NTSB Home page at http://www.ntsb.gov.

FOR FURTHER INFORMATION CONTACT: Vicky D'Onofrio, (202) 314-6410.

Dated: November 4, 2005.
Vicky D'Onofrio,
Federal Register Liaison Officer.

[FR Doc. 05-22408 Filed 11-4-05; 3:45 pm]

BILLING CODE 7533-01-M